SMALL BUSINESS ADMINISTRATION

[Declaration of Disaster #3435]

State of California

Plumas County and the contiguous counties of Butte, Lassen, Sierra, Shasta, Tehama, and Yuba in the State of California constitute a disaster area as a result of damages caused by a microburst that occurred on July 11, 2002. Applications for loans for physical damage as a result of this disaster may be filed until the close of business on September 27, 2002 and for economic injury until the close of business on April 29, 2003 at the address listed below or other locally announced locations:

U.S. Small Business Administration, Disaster Area 4 Office, P.O. Box 13795, Sacramento, CA 95853-4795.

The interest rates are:

For Physical Damage: | Percent
Homeowners With Credit Available Elsewhere | 6.750
Homeowners Without Credit Available Elsewhere | 3.375
Businesses With Credit Available Elsewhere | 7.000
Businesses and Non-Profit Organizations Without Credit Available Elsewhere | 3.500
Others (Including Non-Profit Organizations) With Credit Available Elsewhere | 6.375
For Economic Injury: Businesses and Small Agricultural Cooperatives Without Credit Available Elsewhere | 3.500

The number assigned to this disaster for physical damage is 343511 and for economic damage is 9Q8300.

(Catalog of Federal Domestic Assistance Program Nos. 59002 and 59008.)
Dated: July 29, 2002.
Hector V. Barreto,
Administrator.

[FR Doc. 02-19584 Filed 8-1-02; 8:45 am]

BILLING CODE 8025-01-P